DEPARTMENT OF LABOR

Employment and Training Administration

Proposed Data Collection Submitted for Public Comment and Recommendation; Local Area Survey of the WIA Performance Measurement System

ACTION: Notice.

SUMMARY: The Department of Labor, as part of its continuing effort to reduce paperwork and respondent burden, is conducting a preclearance consultation program to provide the general public and Federal agencies with an opportunity to comment on proposed collections of information in accordance with the Paperwork Reduction Act of 1995 (44 U.S.C. 3506(c)(2)(A)). This program helps to ensure that requested data can be provided in the desired format, reporting burden (time and financial resources) is minimized, collection instruments are clearly understood, and the impact of the collection requirements on respondents can be properly assessed. Through this notice, the Employment and Training Administration is soliciting comments concerning a proposed new collection of data on performance accountability and measurement policies and practices employed by local workforce investment areas (LWIA) under the Workforce Investment Act (WIA).

A copy of the proposed survey can be obtained by contacting the office listed below in the ADDRESSES section of this notice.

DATES: Written comments must be submitted to the office listed in the ADDRESSES section below on or before December 29, 2003.

ADDRESSES: Alberta Baker, U.S. Department of Labor, Employment and Training Administration, Office of Policy Development, Evaluation and Research, 200 Constitution Avenue, NW., Room N-5637, Washington DC 20210, (202) 693-3642.

FOR FURTHER INFORMATION CONTACT: Alberta Baker (202) 693-3642.

SUPPLEMENTARY INFORMATION:

I. Background

The Department of Labor, Employment and Training Administration seeks to gather information about the performance accountability and measurement system and how this system impacts specific local area policies, practices, and service delivery under WIA. This survey will enable ETA to collect uniform data across all Local Workforce Investment Areas providing DOL with a snapshot of the performance accountability and measurement system as a whole and, in addition, pointing to areas of potential concern and areas of strength within this system. The data will provide information on local policies and procedures related to performance accountability including the goals established for local areas, the management tools and practices local areas have put in place to help meet these goals, the influence of broader performance measurement system on local service delivery design, and local areas' awareness and assessment of Common Measures, which are to be implemented in all job training and employment programs in 2004.

Performance accountability and measurement have been important features of the nation's workforce investment system. The Workforce Investment Act (WIA) establishes a performance accountability system, the explicit purpose of which (Sec. 136(a)) is “to assess the effectiveness of States and local areas in achieving continuous improvement of workforce investment activities funded under this subtitle.” DOL negotiates goals for performance outcomes with each state, and states, in turn, negotiate with their local areas to set local goals. Beyond negotiated performance levels, states can give local areas substantial discretion in designing a system to deliver workforce services. The combination of individually negotiated performance levels and local design discretion suggests there will be extensive variation among local workforce investment areas regarding policies and practices related to performance measurement and management. This data collection effort will enable DOL to identify the varying approaches and create a national picture of the ways in which this performance measurement system impacts policies and services at the local level.

Further, enormous amounts of resources have been expended in developing the infrastructure required to effectively measure and manage performance. Major investments have been made in MIS systems and in training employees on effective management strategies to meet negotiated levels. However, little is known about exactly what practices local areas are employing to meet measures, how the broad measures in place are impacting local decisions on managing performance, or whether local areas have implemented additional measures that better enable them to monitor and improve their performance. The data collected will enable ETA to fill this information gap and gain a better understanding of how the performance accountability system is actually operating, as well as any areas of concern that arise from the planned implementation of Common Measures in 2004.

II. Review Focus

The Department of Labor is particularly interested in comments that: (a) Evaluate whether the proposed collection of information is necessary for the proper performance of the functions of the agency, including whether the information has practical utility; (b) evaluate the accuracy of the agency's estimate of the burden of the proposed collection of information; (c) enhance the utility, quality and clarity of the information to be collected; and (d) minimize the burden of the collection of information on those who are to respond, including through the use of appropriate automated, electronic, mechanical, or other technological collection techniques or other forms of information technology.

III. Current Actions

The Department of Labor's Employment and Training Administration will be seeking Office of Management and Budget (OMB) approval to administer a questionnaire to LWIAs on policies and practices related to performance accountability, including their performance goals, and measures and tools they have established to assist in performance management. The data will be used in two ways: to provide a national snapshot of the performance measurement system and to discern patterns of performance policies and practices among LWIAs.

Agency: Department of Labor Employment and Training Administration.

Type of Review: New.

Title: Local Area Survey of the WIA Performance Measurement System.

Affected Public: Local Workforce Investment Areas.

Total Respondents: 605.

Frequency: Once.

Total Responses: 605.

Average Time Per Response: One hour.

Estimated Total Burden Hours: 605 hours.

Total Burden Cost for Capital and Startup: $0.

Total Burden Cost for Operation and Maintenance: $0.

Comments submitted in response to this comment request will be summarized and/or included in the request for OMB approval of the information collection request; they will also become a matter of public record.

Dated: October 23, 2003.
Emily Stover DeRocco,
Assistant Secretary for Employment and Training.

[FR Doc. 03-27355 Filed 10-29-03; 8:45 am]

BILLING CODE 4510-30-P